THE NATIONAL FOUNDATION FOR THE ARTS AND THE HUMANITIES

Institute of Museum and Library Services

Notice of Proposed Information Collection Request: Grants to States, State Program Report, Enhancements in Outcome-Based, Performance Measures and Evaluation

AGENCY: Institute of Museum and Library Services, National Foundation for the Arts and the Humanities

ACTION: Notice, request for comments, collection of information.

SUMMARY: The Institute of Museum and Library Service (“IMLS”) as part of its continuing effort to reduce paperwork and respondent burden, conducts a pre-clearance consultation program to provide the general public and federal agencies with an opportunity to comment on proposed and/or continuing collections of information in accordance with the Paperwork Reduction Act (44 U.S.C. 3501 et seq.). This pre-clearance consultation program helps to ensure that requested data can be provided in the desired format, reporting burden (time and financial resources) is minimized, collection instruments are clearly understood, and the impact of collection requirements on respondents can be properly assessed. The purpose of this Notice is to solicit comments concerning enhancements to the State Program Report for the Grants to State Program for evaluation including performance measurements of beneficiary outcomes beginning with FY 2015 reporting by up to 16 pilot states.

A copy of the proposed information collection request can be obtained by contacting the individual listed below in the ADDRESSES section of this notice.

DATES: Written comments must be submitted to the office listed in the ADDRESSES section below on or before June 28, 2016.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: For a copy of the documents contact: Kim A. Miller, Grants Specialist (Detailee), Office of the Chief Financial Officer, Institute of Museum and Library Services, 955 L'Enfant Plaza North SW., Suite 4000, Washington, DC 20024-2135. Ms. Miller can be reached by Telephone: 202-653-4762, Fax: 202-653-4762, or by email at kmiller@imls.gov.

SUPPLEMENTARY INFORMATION:

I. Background

The Institute of Museum and Library Services (IMLS) is an independent Federal grant-making agency and is the primary source of federal support for the Nation's 123,000 libraries and 35,000 museums. IMLS provides a variety of grant programs to assist the Nation's museums and libraries in improving their operations and enhancing their services to the public. The IMLS Grants to States program is the largest source of federal funding support for library services in the United States. Using a population-based formula, more than $150 million is distributed among the State Library Administrative Agencies.

II. Current Actions

The Library Services and Technology Act requires each State Library Administrative Agency to submit a plan that details library services goals for a five-year period. Pursuant to 20 U.S.C. 9134, each State Library Administrative Agency (SLAA) that receives an IMLS grant under the Grants to States Program is required to evaluate and report to the agency, prior to the end of their five-year plan, regarding the activities assisted under the LSTA. Each SLAA receives IMLS funding to support the five year period through a series of overlapping two year grant awards. Each SLAA must file interim and final financial reports, as well as final performance reports for each of these two year grants through IMLS' State Program Reporting (SPR) system. The purpose of the proposed information collection is to enhance the reporting of the two year grants through enhanced evaluation and performance measures of beneficiaries.

Agency: Institute of Museum and Library Services.

Title: Grants to States, State Program Report, Enhancements in Outcome-Based, Performance Measures and Evaluation.

OMB Number: 3137-0071.

Agency Number: 3137.

Type of Review: Revision to an existing collection.

Affected Public: State Library Administrative Agencies.

Number of Respondents: 55.

Note: 55 is the number of State Library Administrative Agencies that are responsible for the collection of this information and for reporting it to IMLS.

Frequency: Once every two years.

Burden hours per respondent: To be determined.

Total burden hours: To be determined.

Total Annualized capital/startup costs: To be determined.

Total Annual Costs: To be determined.

FOR FURTHER INFORMATION CONTACT: Stephanie Burwell, Chief Information Officer, Office of the Chief Information Officer, Institute of Museum and Library Services, 955 L'Enfant Plaza North SW., Suite 4000, Washington, DC 20024-2135. Ms. Burwell can be reached by Telephone: 202-653-4684, Fax: 202-653-4625, or by email at sburwell@imls.gov or by teletype (TTY/TDD at 202-653-4614. Office hours are from 8:30 a.m. to 5 p.m., E.T., Monday through Friday, except Federal holidays.

Dated: April 27, 2016.
Kim A. Miller,
Grants Specialist (Detailee), Office of the Chief Financial Officer.

[FR Doc. 2016-10183 Filed 4-29-16; 8:45 am]

BILLING CODE 7036-01-P